DEPARTMENT OF HOMELAND SECURITY

Coast Guard

33 CFR Part 117

[Docket No. USCG-2014-0908]

Drawbridge Operation Regulations; Long Island, New York Inland Waterway From East Rockaway Inlet to Shinnecock Canal, Nassau, NY

AGENCY: Coast Guard, DHS.

ACTION: Notice of deviation from drawbridge regulation.

SUMMARY: The Coast Guard has issued a temporary deviation from the operating schedule that governs the operation of the Long Beach Bridge, across Reynolds Channel, mile 4.7, at Nassau, New York. This deviation is necessary to allow the bridge to remain in the closed position for thirty days to facilitate scheduled bridge maintenance, the replacement of the concrete bridge deck.

DATES: This deviation is effective without actual notice from October 21, 2014 through 8 p.m. on November 19, 2014. For the purposes of enforcement, actual notice will be used from 9 a.m. on October 20, 2014, until October 21, 2014.

ADDRESSES: The docket for this deviation [USCG-2014-0908] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone (202) 366-9826.

SUPPLEMENTARY INFORMATION: The Long Beach Bridge has a vertical clearance of 20 feet at mean high water, and 24 feet at mean low water in the closed position. The existing drawbridge operating regulations are found at 33 CFR 117.799(g).

The bridge owner, Nassau County Department of Public Works, requested a bridge closure to facilitate the replacement of the concrete deck at the bridge. During the execution of these repairs the bridge will not be able to open.

Under this temporary deviation, the Long Beach Bridge may remain in the closed position between 9 a.m. on October 20, 2014 through 8 p.m. on November 19, 2014. Vessels that can pass under the bridge in the closed position may do so at all times.

Reynolds Channel has commercial and recreational vessel traffic. There are no alternate routes. The bridge cannot be opened in the event of an emergency. No objections were received from the waterway users.

In accordance with 33 CFR 117.35(e), the drawbridge must return to its regular operating schedule immediately at the end of the effective period of this temporary deviation. This deviation from the operating regulations is authorized under 33 CFR 117.35.

Dated: October 9, 2014.
C.J. Bisignano,
Supervisory Bridge Management Specialist, First Coast Guard District.

[FR Doc. 2014-25011 Filed 10-20-14; 8:45 am]

BILLING CODE 9110-04-P